DEPARTMENT OF ENERGY

Federal Energy Regulatory Commission

[Docket No. RP00-325-001]

Colorado Interstate Gas Company; Notice of Tariff Filing

January 5, 2001.

Take notice that on January 2, 2001, Colorado Interstate Gas Company (CIG), tendered for filing to become part of its FERC Gas Tariff, First Revised Volume No. 1, the pro forma tariff sheets filed pursuant to Order No. 637 and which are listed in Appendix A to the filing.

CIG states these tariff sheets reflect the changes to its tariff required to comply with Order No. 637, 637-A and 637-B (Order).

CIG further states that the pro forma tariff sheets filed in this filing reflect changes from its originally filed pro forma tariff sheets filed June 15, 2000, which CIG agreed to in a September 20, 2000 response to interventions and during technical conferences.

CIG further states that copies of this filing have been served on all parties in this proceeding.

Any person desiring to protest said filing should file a protest with the Federal Energy Regulatory Commission, 888 First Street, NE., Washington, DC 20426, in accordance with section 385.211 of the Commission's Rules and Regulations. All such protests must be filed on or before January 22, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-851 Filed 1-10-01; 8:45 am]

BILLING CODE 6717-01-M